DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Western Alaska Community Development Quota (CDQ) Program.

OMB Control Number: 0648-0269.

Form Number(s): None.

Type of Request: Regular (extension of a currently approved information collection).

Number of Respondents: 13.

Average Hours per Response: 5 minutes to register and 5 minutes to print letter for CDQ Vessel Registration System; 35 minutes for Groundfish/Halibut CDQ or Prohibited Species Quota (PSQ) Transfer Request; 5 hours for Application for Approval of Use of Non-CDQ Harvest Regulations; and 4 hours for Appeals.

Burden Hours: 25.

Needs and Uses: This request is for extension of a current information collection.

The Western Alaska Community Development Quota (CDQ) Program is an economic development program associated with federally managed fisheries in the Bering Sea and Aleutian Islands Management Area (BSAI). The CDQ Program receives apportionments of the annual catch limits for a variety of commercially valuable species in the BSAI, which are in turn allocated among six different non-profit managing organizations representing different affiliations of communities (CDQ groups). The CDQ Program redistributes a portion of commercially important BSAI fisheries species to adjacent communities. There are 65 communities participating in the program. CDQ groups use the revenue derived from the harvest of their fisheries allocations as a basis both for funding economic development activities and for providing employment opportunities. Thus, the successful harvest of CDQ Program allocations is integral to achieving the goals of the program.

National Marine Fisheries Service (NMFS) manages the groundfish fisheries in the exclusive economic zone off Alaska. NMFS manages the groundfish and crab fisheries of the BSAI under the Fishery Management Plan for Groundfish of the Bering Sea and Aleutian Islands Management Area and the Fishery Management Plan for Bering Sea/Aleutian Islands King and Tanner Crabs (FMPs). The North Pacific Fishery Management Council prepared the FMPs under the authority of the Magnuson-Stevens Fishery Conservation & Management Act (16 U.S.C. 1801 et seq.) as amended in 2006. The International Pacific Halibut Commission and NMFS manage fishing for Pacific halibut through regulations established under the authority of the Northern Pacific Halibut Act of 1982. Regulations implementing the FMPs appear at 50 CFR parts 300, 679, and 680.

Affected Public: Not for profit institutions; business or other for-profit organizations.

Frequency: On occasion.

Respondent's Obligation: Required to obtain or retain benefits.

This information collection request may be viewed at reginfo.gov. Follow the instructions to view Department of Commerce collections currently under review by OMB.

Written comments and recommendations for the proposed information collection should be sent within 30 days of publication of this notice to OIRA_Submission@omb.eop.gov or fax to (202) 395-5806.

Dated: December 12, 2016.
Sarah Brabson,
NOAA PRA Clearance Officer.

[FR Doc. 2016-30217 Filed 12-15-16; 8:45 am]

BILLING CODE 3510-22-P